DEPARTMENT OF TRANSPORTATION

Office of the Secretary

49 CFR Part 10

[Docket No. OST-1996-1437]

RIN 2105-AD22 and RIN 2105-AD23

Withdrawal of Proposed Rulemaking Actions

AGENCY: Department of Transportation (DOT), Office of the Secretary.

ACTION: Withdrawal of notices of proposed rulemaking.

SUMMARY: This document withdraws two Office of the Secretary (OST) notices of proposed rulemaking (NPRM) that have been superseded by the transfer to the Department of Homeland Security (DHS) of the Transportation Security Administration (TSA). We inadvertently did not transfer this rulemaking to TSA when TSA moved to the Department of Homeland Security.

FOR FURTHER INFORMATION CONTACT: Jennifer Abdul-Wali, Office of the General Counsel, 400 Seventh Street, SW., Washington, DC 20590; (202) 366-4723; fax: (202) 366-9313; e-mail: Jennifer.Abdul-Wali@ost.dot.gov.

ADDRESSES: You may obtain a copy of this notice from the DOT public docket through the Internet at http://dms.dot.gov, docket number OST-1996-1437. If you do not have access to the Internet, you may obtain a copy of the notice by United States mail from the Docket Management System, U.S. Department of Transportation, Room PL401, 400 Seventh Street, SW., Washington, DC 20590. You must identify docket number OST-1996-1437 and request a copy of the notice entitled “Withdrawal of Proposed Rulemaking Actions.”

You may also review the public docket in person in the Docket office between 9 a.m. and 5 p.m., Monday through Friday, except Federal holidays. The Docket office is on the plaza level of the Department of Transportation. Additionally, you can also get a copy of this document from the Federal Register Web site at http://www.gpo.gov.

SUPPLEMENTARY INFORMATION: Under the Privacy Act of 1974, as amended, an agency that maintains a system of records may exempt that system from some of the provisions of the Privacy Act; the decision to do so is subject to 5 U.S.C. 553, requiring notice and opportunity for public comment. When TSA was part of DOT, we published rulemaking proposals to exempt a number of systems of records maintained by TSA from provisions of the Privacy Act. When TSA moved to DHS (March 1, 2003), those rulemaking proceedings had not been completed; they were started anew and finished by DHS.

The Privacy Act record systems whose exemption proposals are affected by this action are:

1. The Transportation Security Enforcement Record System (TSER), which would have enabled TSA to maintain a civil enforcement and inspections system for all modes of transportation for which TSA has security-related duties. This system would have covered information regarding violations and potential violations of TSA security regulations (TSRs), and would have been used, generally, to review, analyze, investigate, and prosecute violations of TSRs.

2. To facilitate TSA's performance of employment investigations for transportation workers, as required by 49 U.S.C. 114 and 44936, a system to be known as the Transportation Workers Employment Investigations system.

3. To facilitate TSA's performance of employment investigations for its own workers, a system to be known as the Personnel Background Investigation Files System.

4. Aviation Security-Screening Records would have enabled the TSA to maintain a security-screening system for air transportation. This system would have contained information regarding TSA's conduct of risk assessments required by 49 U.S.C. 114 and 44903. The system would have been used, generally, to review, analyze, and assess threats to transportation security and respond accordingly.

For the reason outlined above, the Department is withdrawing these proposals.

Issued in Washington, DC on July 19, 2004.
Norman Y. Mineta,
Secretary of Transportation.

[FR Doc. 04-19957 Filed 8-31-04; 8:45 am]

BILLING CODE 4910-62-P